DEPARTMENT OF ENERGY

Federal Energy Regulatory Commission

[Docket No. ER04-521-005, et al.]

PJM Interconnection, L.L.C., et al.; Electric Rate and Corporate Filings

June 4, 2004.

The following filings have been made with the Commission. The filings are listed in ascending order within each docket classification.

1. PJM Interconnection, L.L.C.

[Docket No. ER04-521-005]

Take notice that on June 2, 2004, Exelon Corporation submitted for filing a Report on Pathway Capacity.

Comment Date: June 23, 2004.

2. PJM Interconnection, L.L.C. Commonwealth Edison Company

[Docket No. ER04-718-003]

Take notice that on May 27, 2004, Commonwealth Edison Company (ComEd) submitted for filing, in compliance with the Commission's order issued April 27, 2004, in Docket No. ER04-718-001, Accepting Compliance Filing, and Conditionally Accepting Service Agreements for Filing, Suspending Filing, and Establishing Hearing Procedures an amended Financial Hold Harmless Service Agreement under the PJM Open Access Transmission Tariff.

ComEd states that copies of the filing were served upon each person upon the official service list of the Commission.

Comment Date: June 17, 2004.

3. The United Illuminating Company

[Docket No. ER04-770-000]

Take notice that on June 2, 2004, The United Illuminating Company (United Illuminating) submitted for filing an answer to PSEG Energy Resources & Trade, LLC's (PSEG) May 18, 2004, Motion to Intervene, Protest, and Motion to Reject filed in response to United Illuminating's April 27, 2004, filing in Docket No. ER04-770-000. United Illuminating also included in the June 2, 2004, filing a motion to withdraw its April 27, 2004, filing of the Agreement for Supplemental Installed Capacity-Southwest Connecticut (LRP) Resources between United Illuminating and ISO New England Inc. United Illuminating states that it seeks affirmative relief by including a Motion to Reject PSEG's May 18, 2004, answer.

Comment Date: June 10, 2004.

4. AEP Texas North Company

[Docket No. ER04-888-000]

Take notice that on May 28, 2004, American Electric Power Service Corporation (AEPSC), as agent for AEP Texas North Company (AEPTNC) formerly West Texas Utilities Company, submitted for filing an unexecuted interconnection agreement between AEPTNC and Taylor Electric Cooperative, Inc. (Taylor). AEPTNC requests an effective date of August 1, 2004.

AEPSC states that it has served copies of the filing on Taylor and the Public Utility Commission of Texas.

Comment Date: June 18, 2004.

5. Calpine Energy Services, Inc.

[Docket No. ER04-889-000]

Take notice that on May 28, 2004, Calpine Energy Services, L.C. (CES) on behalf of Calpine Parlin, L.L.C., tendered for filing, under section 205 of the Federal Power Act, a rate schedule for reactivepower from the Calpine Parlin Energy Center for sales to PJM Interconnection, L.L.C. CES requests an effective date of August 1, 2004.

CES states that copies of the filing have been served on PJM Interconnection, L.L.C., Jersey Central Power & Light Company and the New Jersey Board of Public Utilities.

Comment Date: June 18, 2004.

6. Southern California Edison Company

[Docket No. ER04-890-000]

Take notice that on May 28, 2004, Southern California Edison Company (SCE) tendered for filing a revision to its Transmission Owner Tariff (TO Tariff), FERC Electric Tariff, Second Revised Volume No. 6. SCE states that the revisions modifies the TO Tariff by revising the definition of “Reliability Services” to reflect a new category of Reliability Services costs to be imposed by the California Independent System Operator Corporation (ISO) on Participating Transmission Owners (PTOs) in the ISO.

SCE states that copies of this filing were served upon the Public Utilities Commission of the State of California, the ISO, the California Electricity Oversight Board, Pacific Gas and Electric Company, San Diego Gas & Electric Company, The Metropolitan Water District of Southern California, and the wholesale customers that have loads in SCE's historic control area but are not PTOs in the ISO.

Comment Date: June 18, 2004.

7. PJM Interconnection, L.L.C.

[Docket No. ER04-891-000]

Take notice that on May 28, 2004, PJM Interconnection, L.L.C. (PJM), tendered for filing an executed agreement for dynamic scheduling of transmission service between PJM and the Wisconsin Electric Power Company (WE). PJM states that it is filing the dynamic scheduling agreement (DSA) as a result of the integration of Commonwealth Edison Company (ComEd) into the PJM region, to facilitate the conversion of service from ComEd's tariff to the PJM Open Access Transmission Tariff (PJM Tariff). PJM requests that the DSA be accepted effective May 1, 2004, and therefore requests waiver of the prior notice requirement.

PJM states that copies of this filing were served upon WE and the State commissions in the PJM region.

Comment Date: June 18, 2004.

8. PJM Interconnection, L.L.C.

[Docket No. ER04-892-000]

Take notice that on May 28, 2004, PJM Interconnection, L.L.C. (PJM), tendered for filing an executed agreement for network integration transmission service between PJM and the City of St. Charles, Illinois (St. Charles). PJM states that it is filing the agreement because it includes an addendum (not reflected in PJM's Open Access Transmission Tariff that specifies how various responsibilities for St. Charles's load are to be apportioned between St. Charles and Commonwealth Edison Company (ComEd) during periods when St. Charles is a partial requirements customer of ComEd. PJM requests that the enclosed agreement be accepted effective May 1, 2004, and therefore requests waiver of the prior notice requirement.

PJM states that copies of this filing were served upon St. Charles and the State commissions in the PJM region.

Comment Date: June 18, 2004.

9. PJM Interconnection, L.L.C.

[Docket No. ER04-893-000]

Take notice that on May 28, 2004, PJM Interconnection, L.L.C. (PJM), tendered for filing an executed agreement for network integration transmission service between PJM and the City of Batavia, Illinois (Batavia). PJM states that it is filing the agreement because it includes an addendum (not reflected in PJM's Open Access Transmission Tariff that specifies how various responsibilities for Batavia's load are to be apportioned between Batavia and Commonwealth Edison Company (ComEd) during periods when Batavia is a partial requirements customer of ComEd. PJM requests that the enclosed agreement be accepted effective May 1, 2004, and therefore requests waiver of the prior notice requirement.

PJM states that copies of this filing were served upon Batavia and the State commissions in the PJM region.

Comment Date: June 18, 2004.

10. Maine Public Service Company

[Docket No. ER04-894-000]

Take notice that on May 28, 2004, Maine Public Service Company (MPS) submitted minor revisions to its open access transmission tariff (OATT) to reflect: (1) Revisions to conform the Formula Rate FERC Form No. 1 (FERC Form 1) references to the changes made by the Commission to the FERC Form 1; (2) to revise a footnote to reflect a request by the Maine Public Utilities Commission; and (3) to correct spelling errors, internal cross-references, and to prevent double charging for VAR costs. MPS requests a June 1, 2004, effective date for the OATT revisions.

MPS states that copies of this filing were served on the Maine Public Utilities Commission, the Maine Public Advocate, and current MPS open access transmission tariff customers.

Comment Date: June 18, 2004.

11. Midwest Independent Transmission System Operator, Inc.

[Docket No. ER04-895-000]

Take notice that on May 28, 2004, the Midwest Independent Transmission System Operator, Inc. (Midwest ISO) and the Midwest ISO Transmission Owners submitted for filing proposed revisions to Attachment O of the Midwest Independent Transmission System Operator, Inc. Open Access Transmission Tariff, in order to update references to FERC Form 1 and to correct ministerial errors. Midwest ISO and the Midwest ISO Transmission Owners requested waiver of the notice provision of section 205 of the Federal Power Act in order to accommodate an effective date of June 1, 2004.

Midwest ISO and the Midwest ISO Transmission Owners state that copies of the filing have been served electronically upon all Midwest ISO Members, Member representatives of Transmission Owners and Non-Transmission Owners, as well as all state commissions within the region. In addition, Midwest ISO and the Midwest ISO Transmission Owners state that the filing has been electronically posted on the Midwest ISO's Web site at http://www.midwestiso.org under the heading “Filings to FERC” for other interested parties in this matter and that hard copies will be provided to any interested parties upon request.

Comment Date: June 18, 2004.

12. PJS Capital, LLC

[Docket No. ER04-896-000]

Take note that on May 28, 2004, PJS Capital, LLC petitioned the Commission for acceptance of PJS Capital, LLC Rate Schedule FERC No. 1 the granting of certain blanket approvals, including the authority to sell electricity at market based rates; and waiver of certain Commission regulations. PJS Capital LLC states that it intends to engage in wholesale electric power and energy purchases and sales as a marketer that it is not in the business of generating or transmitting electric power.

Comment Date: June 18, 2004.

13. Commonwealth Edison Company

[Docket No. ER04-897-000]

Take notice that on June 1, 2004, Commonwealth Edison Company (ComEd) submitted for filing service agreements (SAs) formerly under its open access transmission tariff (OATT), now redesignated under PJM Interconnection, LLC's (PJM) OATT. ComEd states that it has integrated into PJM as of May 1, 2004 and accordingly, its OATT and all applicable SAs under that OATT are cancelled as of that date. See American Electric Power, et al., 103 FERC 61,008 at P 18 (2003). ComEd requests those waivers necessary to make the redesignated SAs effective May 1, 2004.

ComEd states that a copy of this transmittal letter has been served on the affected state regulatory bodies, the counterparties to these SAs, and PJM.

Comment Date: June 22, 2004.

14. Virginia Electric and Power Company

[Docket No. ER04-898-000]

Take notice that on June 1, 2004, Virginia Electric and Power Company, doing business as Dominion Virginia Power, (Dominion) tendered for filing revised tariff sheets (Revised Sheets) in Virginia Electric and Power Company's FERC Electric Tariff, Second Revised Volume No. 5 (OATT) modifying the methodology for recovery of its revenue requirement under Schedule 2 to its OATT; amending certain references to be consistent with the currently effective standards of conduct; and deleting Attachments E and I, which have been replaced by information in Dominion's Electronic Quarterly Reports. Dominion requests waiver of the Commission's notice of filing requirements to allow the Revised Sheets amending references regarding the standards of conduct and deleting Attachments E and I to become effective on June 2, 2004, the day after filing, and to allow the Revised Sheets modifying Schedule 2 to become effective on May 1, 2004.

Dominion states that copies of the filing were served upon all tariff customers, Tenaska, the Virginia State Corporation Commission and the North Carolina Utilities Commission.

Comment Date: June 22, 2004.

15. Maine Public Service Company

[Docket No. ER04-899-000]

Take notice that on June 1, 2004, Maine Public Service Company (MPS) submitted revised and new tariff sheets in compliance with Order No. 2003-A, Standardization of Generator Interconnection Agreements and Procedures, Order No. 2003-A, 106 FERC ¶ 61,220 (2004), to incorporate Order No. 2003-A's pro forma Standard Large Generator Interconnection Procedure and Standard Large Generator Interconnection Agreement. MPS proposes an effective date of April 26, 2004, for the new and revised tariff sheets.

MPS states that copies of this filing were served on the Maine Public Utilities Commission and the Maine Public Advocate.

Comment Date: June 22, 2004.

16. LG&E Energy LLC.

[Docket No. ER04-900-000]

Take notice that on May 28, 2004, LG&E Energy LLC (LG&E) filed with the Commission an agreement for the sale of wholesale power and energy to East Kentucky Power Cooperative, Inc.

LG&E states that it has served a copy on East Kentucky Power Cooperative, Inc.

Comment Date: June 18, 2004.

17. Entergy Services, Inc.

[Docket No. ER04-901-000]

Take notice that on June 1, 2004, Entergy Services, Inc., on behalf of the Entergy Operating Companies, Entergy Arkansas, Inc., Entergy Gulf States, Inc., Entergy Louisiana, Inc., Entergy Mississippi, Inc., and Entergy New Orleans, Inc. (collectively Entergy), filed revisions to its standard Generator Imbalance Agreement. Entergy requests an effective date of August 1, 2004, for the proposed revisions.

Comment Date: June 22, 2004.

18. Oklahoma Gas and Electric Company

[Docket No. ER04-902-000]

Take notice that on June 2, 2004, Oklahoma Gas and Electric Company (OG&E) tendered for filing a letter agreement between OG&E and the Oklahoma Municipal Power Authority. OG&E requests an effective date of June 1, 2004.

OG&E states that it has served the filing on the Oklahoma Municipal Power Authority and the Oklahoma Corporation Commission.

Comment Date: June 23, 2004.

19. Devon Power LLC

[Docket No. ER04-903-000]

Take notice that on May 28, 2004, Devon Power LLC (Devon) tendered for filing data supporting a new month applicable Reliability Charge for Devon Unit 7 under the Amended Reliability Agreement between Devon and ISO New England, Inc. Devon request an effective date of May 29, 2004.

Devon states that it has provided copies of the filing to ISO-NE and served each person designated on the official service list et al., compiled by the Secretary in Docket Nos. ER04-464-000, ER04-23-000 and ER03-563-029.

Comment Date: June 18, 2004.

20. Orange and Rockland Utilities, Inc.

[Docket No. ER04-905-000]

Take notice that on June 2, 2004, Orange and Rockland Utilities, Inc., (O&R) submitted a filing amending its Tariff for the Wholesale Sale of Electricity at Market-Based Rates to include the Market Behavior Rules promulgated by the Commission. Investigation of Terms and Conditions of Public Utility Market-Based Rate Authorizations, 105 FERC ¶ 61,218 (2003).

O&R states that it is serving this filing on all parties to the subject dockets and on the New York Public Service Commission.

Comment Date: June 23, 2004.

21. PacifiCorp

[Docket No. TX04-4-000]

Take notice that on May 28, 2004, PacifiCorp tendered for filing with the Commission an Application for an Order under section 211 of the Federal Power Act Directing the Provision of Transmission Service.

PacifiCorp states that copies of this filing were supplied to Nevada Power, the Washington Utilities and Transportation Commission and the Public Utility Commission of Oregon.

Comment Date: June 18, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1385 Filed 6-18-04; 8:45 am]

BILLING CODE 6717-01-P